DEPARTMENT OF THE INTERIOR

National Park Service

[NPS-WASO-NAGPRA-NPS0039529; PPWOCRADN0-PCU00RP14.R50000]

Notice of Intended Repatriation: University of California, Berkeley, Berkeley, CA

AGENCY: National Park Service, Interior.

ACTION: Notice.

SUMMARY: In accordance with the Native American Graves Protection and Repatriation Act (NAGPRA), the University of California, Berkeley intends to repatriate certain cultural items that meet the definition of unassociated funerary objects and that have a cultural affiliation with the Indian Tribes or Native Hawaiian organizations in this notice.

DATES: Repatriation of the cultural items in this notice may occur on or after April 18, 2025.

ADDRESSES: Alexandra Lucas, Repatriation Coordinator, Government and Community Relations, Office of the Chancellor. University of California, Berkeley, 200 California Hall, Berkeley, CA 94720, telephone (510) 570-0964, email nagpra-ucb@berkeley.edu.

SUPPLEMENTARY INFORMATION: This notice is published as part of the National Park Service's administrative responsibilities under NAGPRA. The determinations in this notice are the sole responsibility of the University of California, Berkeley and additional information on the determinations in this notice, including the results of consultation, can be found in the summary or related records. The National Park Service is not responsible for the determinations in this notice.

Abstract of Information Available

A total of 32 cultural items have been requested for repatriation.

In 1940, Francis A. Riddell and Harry Starr Riddell Jr. collected two lots of unassociated funerary objects from CA-SAC-166 in Sacramento County, CA. These unassociated funerary objects are ground stone. Francis A. Riddell donated these unassociated funerary objects to the Lowie Museum (today the Phoebe A. Hearst Museum of Anthropology) in 1951.

In 1952, Robert Fleming Heizer removed one lot of unassociated funerary objects from CA-SAC-166. The unassociated funerary object is a core. In May 1952, the Lowie Museum appropriated the unassociated funerary object from the University of California Archaeological Survey. Robert Fleming Heizer and Albert B. Elsasser removed four lots of unassociated funerary objects from CA-SAC-166 in June 1953.

In July 1953, the Lowie Museum appropriated these four unassociated funerary objects from the University of California Archaeological Survey via Albert B. Elsasser. The four lots of unassociated funerary objects are stone tools and lithics.

In October 1946, numerous individuals removed 16 lots of unassociated funerary objects from CA-SAC-172 in Sacramento County, CA. On September 12, 1952 the Lowie Museum appropriated the 16 lots of unassociated funerary objects from the University of California Archaeological Survey via Albert B. Elsasser. The 16 lots of unassociated funerary objects are baked clay, beads, ocher, stone tools, and shell ornaments.

In 1932, Jeremiah B. Lillard (Sacramento County Board of Education), collected one lot of unassociated funerary objects from Del Paso Mound, Sacramento County, California. The one lot of unassociated funerary objects are beads. The University of California Museum of Anthropology (today the Phoebe A. Hearst Museum of Anthropology) accessioned the one lot of unassociated funerary objects in 1942.

Between 1932 and 1937, four lots of unassociated funerary objects were removed from the area of Fair Oaks, Sacramento County, California. The four lots of unassociated funerary objects are ground stone, projectile points, and discoidal. In 1942, Jeremiah B. Lillard (Sacramento County Board of Education) donated the four lots of unassociated funerary objects to the University of California Museum of Anthropology (today the Phoebe A. Hearst Museum of Anthropology).

In 1937, Francis A. Riddell removed one lot of unassociated funerary objects from the Folsom area of Sacramento County, California. The one lot of unassociated funerary objects are beads. Francis A. Riddell donated the 3 lots of unassociated funerary objects to the University of California Museum of Anthropology in 1949.

In 1932, two lots of unassociated funerary objects were removed from Folsom, Sacramento County, California and donated to the University of California Museum of Anthropology (today the Phoebe A. Hearst Museum of Anthropology) by Jeremiah B. Lillard (Sacramento County Board of Education) in 1942. The two lots of unassociated funerary objects are ground stone.

In 1922 Hermann R. Steinbach removed one lot of unassociated funerary objects from Natomas Mound, Sacramento County, California. The one lot of unassociated funerary objects are beads. Jesse Peter donated the one lot of unassociated funerary objects to the University of California, Berkeley in 1922.

Collections and collection spaces at the Phoebe A Hearst Museum of Anthropology were treated with substances for preservation and pest control, some potentially hazardous. No records have been found to date at the Museum to indicate whether or not chemicals or natural substances were used prior to 1960.

Determinations

The University of California, Berkeley has determined that:

• The 32 unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a reasonable connection between the cultural items described in this notice and the Shingle Springs Band of Miwok Indians, Shingle Springs Rancheria (Verona Tract), California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after April 18, 2025. If competing requests for repatriation are received, the University of California, Berkeley must determine the most appropriate requestor prior to repatriation. Requests for joint repatriation of the cultural items are considered a single request and not competing requests. The University of California, Berkeley is responsible for sending a copy of this notice to the Indian Tribes and Native Hawaiian organizations identified in this notice and to any other consulting parties.

Authority: Native American Graves Protection and Repatriation Act, 25 U.S.C. 3004 and the implementing regulations, 43 CFR 10.9.

Dated: February 11, 2025.
Melanie O'Brien,
Manager, National NAGPRA Program.

[FR Doc. 2025-04465 Filed 3-18-25; 8:45 am]

BILLING CODE 4312-52-P